DEPARTMENT OF THE INTERIOR

Bureau of Land Management

[1610 DP 001H]

Notice of Availability of the Draft Upper Deschutes Resource Management Plan and Draft Environmental Impact Statement

AGENCY: Bureau of Land Management, Interior.

ACTION: Notice of availability.

SUMMARY: In accordance with the Federal Land Policy and Management Act and the National Environmental Policy Act, a Draft Resource Management Plan/Environmental Impact Statement (DRMP/EIS) has been prepared for the Upper Deschutes planning area of the Prineville District.

DATES: Written comments on the DRMP/EIS will be accepted for 90 days following the date the Environmental Protection Agency publishes the Notice of Availability in the Federal Register. Future meetings or hearings and any other public involvement activities will be announced at least 15 days in advance through public notices, media new releases, and/or mailings.

ADDRESSES: Written comments should be sent to: Prineville District Office, ATTN: Teal Purrington. Comments submitted by electronic mail should be sent to: upper_deschutes_RMP@or.blm.gov. Individual respondents may request confidentiality.

If you wish to withhold your name or street address from public review or from disclosure under the Freedom of Information Act, you must state this prominently at the beginning of your written comment. Such request will be honored to the extent allowed by law. All submissions from organizations and businesses, and from individuals identifying themselves as representatives or officials of organizations or businesses, will be available for public inspection in their entirety.

Copies of the DRMP/EIS (or an executive summary) have been sent to approximately 1,000 affected federal, state and local agencies, tribal governments and interested members of the public. Copies of the Upper Deschutes Draft Resource Management Plan and Environmental Impact Statement are available in the Prineville District Office at the above address during normal working hours (8 a.m. to 4:30 p.m.) Copies may also be obtained at public libraries located in Bend, Redmond, Prineville, Sisters, and Madras. Copies of the Draft Resource Management Plan and Environmental Impact Statement and associated maps are also available on-line at: www.or.blm.gov/Prineville/Deschutes_RMP/Home.html.

FOR FURTHER INFORMATION CONTACT: Mollie Chaudet, Project Manager, Prineville District, Prineville, Oregon (541) 416-6872.

SUPPLEMENTARY INFORMATION: The area covered by the DRMP/EIS includes approximately 400,000 acres of public domain lands in portions of Deschutes, Crook, Jefferson, and Klamath Counties in central Oregon. The planning boundary extends roughly north between the communities of La Pine, Sisters, and Madras, east to Ochoco and Prineville Reservoirs, and south to the Deschutes National Forest boundary. The planning effort was first initiated in 1995 as the Urban Interface EIS and was reinitiated in October 2001 with the publication of the Upper Deschutes Resource Management Plan Analysis of the Management Situation (AMS).

The Upper Deschutes Resource Management Plan will supersede and revise portions of the Brothers-La Pine Resource Management Plan (1989) and the Two Rivers Resource Management Plan (1986). Some management direction would clarify or improve management direction within the Middle Deschutes and Lower Crooked River Wild and Scenic River Plans. The Upper Deschutes Resource Management Plan will also incorporate strategies and direction identified in the National and Central Oregon Fire Management Plan.

The following local, state, or Federal Governments are Cooperative Agencies for the DRMP/EIS: Deschutes County, City of Redmond, Oregon Military Department, Oregon Department of Transportation, and the Federal Highway Department.

A no action alternative and six “action” alternatives were developed using a community-based collaboration strategy. The Resource Management Plan provides future broad-scale management direction for land use allocations and allowable uses on public lands within the planning area. The DEIS examines seven alternatives that respond to the significant issues identified during scoping. These issues include: Ecosystem Health, Land Uses, Recreation, Land Ownership, Transportation and Utility Corridors, and Public Health and Safety. Alternative 7 has been identified as the Preferred Alternative.

Dated: August 12, 2003.
Elaine M. Brong,
State Director, Oregon-Washington USDI-Bureau of Land Management.

[FR Doc. 03-24809 Filed 10-16-03; 8:45 am]

BILLING CODE 4310-33-P